DEPARTMENT OF LABOR

Employment and Training Administration

[TA-W-81,287]

American Woodmark Corporation, Moorefield, WV; Notice of Negative Determination on Reconsideration

On May 21, 2012, the Department of Labor (Department) issued an Affirmative Determination Regarding Application for Reconsideration for the workers and former workers of American Woodmark Corporation, Moorefield, West Virginia (subject firm). The Department's Notice was published in theFederal Register on June 6, 2012 (77 FR 33491). The workers are engaged in employment related to the production of kitchen and bath cabinetry products.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on the findings that worker separations were not attributable to increased imports of kitchen and bath cabinetry, or articles like or directly competitive, by the subject firm or its declining customers. Further, worker separations were not attributable to a shift of production of kitchen and bath cabinetry, or articles like or directly competitive, to a foreign country, or a foreign acquisition of these products by the workers' firm.

In the request for reconsideration, petitioners alleged that workers at the subject firm were impacted by increased import competition of kitchen and bath cabinetry products or like or directly competitive articles.

During the reconsideration investigation, the Department reviewed and confirmed information collected during the initial investigation and collected additional information from the subject firm.

The reconsideration investigation findings confirmed that the subject firm and its major customers did not import articles like or directly competitive with kitchen and bath cabinetry products in the period under investigation. Additionally, the reconsideration investigation findings confirmed that the subject firm did not shift the production of kitchen and bath cabinetry products, or like or directly competitive articles, to a foreign country or acquire the production of such articles from a foreign country.

After careful review of the request for reconsideration, previously-submitted information, and information obtained during the reconsideration investigation, the Department determines that 29 CFR 90.18(c) has not been met.

Conclusion

After careful review, I determine that the requirements of Section 222 of the Act, 19 U.S.C. 272, have not been met and, therefore, deny the petition for group eligibility of to apply for adjustment assistance, in accordance with Section 223 of the Act, 19 U.S.C. 2273.

Signed in Washington, DC, on this 13th day of July, 2012.
Del Min Amy Chen,
Certifying Officer, Office of Trade Adjustment Assistance.

[FR Doc. 2012-18418 Filed 7-27-12; 8:45 am]

BILLING CODE 4510-FN-P